DEPARTMENT OF HEALTH AND HUMAN SERVICES

National Institutes of Health

Proposed Collection; 60-Day Comment Request; Office of Programs To Enhance Neuroscience (OPEN) Workforce Tracker (National Institute of Neurological Disorders and Stroke)

AGENCY: National Institutes of Health, HHS.

ACTION: Notice.

SUMMARY: In compliance with the requirement of the Paperwork Reduction Act of 1995, to provide opportunity for public comment on proposed data collection projects, the National Institute of Neurological Disorders and Stroke (NINDS), will publish periodic summaries of proposed projects to be submitted to the Office of Management and Budget (OMB) for review and approval.

DATES: Comments regarding this information collection are best assured of having their full effect if received within 60 days of the date of this publication.

FOR FURTHER INFORMATION CONTACT: To request more information on the proposed project or to obtain a copy of the data collection plans and instruments, contact: Dr. Cara Long, Health Science Policy Analyst, Office of Science Policy and Planning, NINDS, NIH, 31 Center Drive, Building 31, Room 8A52, Bethesda, MD 20892, or call non-toll-free number (301) 496-9271, or Email your request, including your address to: cara.long@nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: The Office of Programs to Enhance Neuroscience (OPEN) Workforce Tracker, 0925-New, National Institute of Neurological Disorders and Stroke (NINDS), National Institutes of Health (NIH).

Need and Use of Information Collection: The OPEN Workforce Tracker database will gather and store information on neuroscience research trainees who have received NINDS support. The NINDS OPEN will use this information to analyze diversity-targeted career development program outcomes, to make improvements to these programs, and to build and foster a user-friendly community that will allow NINDS to communicate information and opportunities to current and former awardees, including those from groups that may be underrepresented and underserved within federal programs and awards. The OPEN Workforce Tracker will help NINDS collect structured information that is specific to the requirements of NINDS programs and that reflects outcome metrics used to assess program effectiveness. This information includes career stage, position, publications, degrees, and information related to NIH funding and external funding received, as well as protected class identifiers (race and ethnicity, sexual identification, gender, and disability) important for understanding program participation and outcomes across diverse groups.

The tracker follows minimization principles: it only collects relevant and necessary information to accomplish the purposes of program evaluation and communication, and it will interface with and pull in relevant information from existing NIH database systems database systems to minimize reporting burden. The database grants NINDS awardees the right to access their data held by NINDS and the ability to copy and correct any information errors. The information collection is consistent with NINDS's mission and mandate to conduct and support training in neuroscience (Public Health Service Act, 42 U.S.C. 285(j)). Also, this database aligns with the NIH-wide strategic plan to advance diversity, equity, inclusion, and accessibility (DEIA) through research and support analyses to identify and remove potential barriers to the implementation and expansion of promising and effective DEIA practices, policies, and procedures (Objective 3).

OMB approval is requested for 3 years. There are no costs to respondents other than their time. The total estimated annualized burden hours are 167.

Estimated Annualized Burden Hours
Type of respondent | Number of respondents | Number of responses per respondent | Average burden per response (in hours) | Total annual burden hour
Individuals (“trainees”) | 500 | 1 | 20/60 | 167
Total |  | 500 |  | 167

Dated: October 31, 2023.
Paul A. Scott,
Project Clearance Liaison, National Institute of Neurological Disorders and Stroke, National Institutes of Health.

[FR Doc. 2023-24372 Filed 11-2-23; 8:45 am]

BILLING CODE 4140-01-P